DEPARTMENT OF AGRICULTURE

Forest Service

Tehama County Resource Advisory Committee

AGENCY: Forest Service, USDA.

ACTION: Notice of Meeting.

SUMMARY: The Tehama County Resource Advisory Committee (RAC) will hold its third meeting.

DATES: The meeting will be held on April 11, 2002, and will begin at 9:00 a.m. and end at approximately 12:00 p.m.

ADDRESSES: The meeting will be held at the Lincoln Street School, PDC Room, 1135 Lincoln Street, Red Bluff, CA.

FOR FURTHER INFORMATION CONTACT: Bobbin Gaddini, Committee Coordinator, USDA, Mendocino National Forest, Grindstone Ranger District, P.O. Box 164, Elk Creek, CA 95939. (530) 968-5329; EMAIL ggaddini@fs.fed.us

SUPPLEMENTARY INFORMATION: Agenda items to be covered include: (1) By-laws, (2) Project Selection Criteria. (3) List Projects by Category. (4) How to Apply Criteria to Projects, (5) Watershed and Roads, (6) Public Comment. The meeting is open to the public. Public input opportunity will be provided and individuals will have the opportunity to address the Committee at that time.

Dated: March 13, 2002.
Michael Brenner,
Acting Forest Supervisor.

[FR Doc. 02-6588 Filed 3-18-02; 8:45 am]

BILLING CODE 3410-11-M